DEPARTMENT OF COMMERCE

International Trade Administration

[A-580-889]

Dioctyl Terephthalate From the Republic of Korea: Preliminary Results of Antidumping Duty Administrative Review and Preliminary Determination of No Shipments; 2019-2020

AGENCY: Enforcement and Compliance, International Trade Administration, Department of Commerce.

SUMMARY: The Department of Commerce (Commerce) preliminarily determines that LG Chem, Ltd. (LG Chem) made sales of subject merchandise at less than normal value during the August 1, 2019, through July 31, 2020 period of review (POR). Commerce preliminarily determines that Aekyung Petrochemical Co., Ltd. (AKP) had no shipments of subject merchandise during the POR. Interested parties are invited to comment on these preliminary results of review.

DATES: Applicable May 7, 2021.

FOR FURTHER INFORMATION CONTACT: Laurel LaCivita or Patrick Barton, AD/CVD Operations, Office III, Enforcement and Compliance, International Trade Administration, U.S. Department of Commerce, 1401 Constitution Avenue NW, Washington, DC 20230; telephone: (202) 482-4243 or (202) 482-0012, respectively.

SUPPLEMENTARY INFORMATION:

Background

On October 6, 2020, based on timely requests for review, in accordance with 19 CFR 351.221(c)(1)(i), Commerce initiated an administrative review of the antidumping duty order on dioctyl terephthalate (DOTP) from the Republic of Korea (Korea), covering two companies: AKP and LG Chem.¹ On January 22, 2021, LG Chem informed Commerce that it would not be participating in the review.²

¹ See Initiation of Antidumping and Countervailing Duty Administrative Reviews, 85 FR 63081 (October 6, 2020).

² See LG Chem's Letter, “LG Chem's Decision to Stop Participating in AD Review,” dated January 22, 2021.

For a complete description of the events that followed the initiation of this review, see the Preliminary Decision Memorandum.³ The Preliminary Decision Memorandum is a public document that is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. A list of the topics discussed in the Preliminary Decision Memorandum is attached as an appendix to this notice.

³ See Memorandum, “Decision Memorandum for the Preliminary Results of the 2019-2020 Antidumping Duty Administrative Review: Dioctyl Terephthalate from the Republic of Korea,” dated concurrently with, and hereby adopted by, this notice (Preliminary Decision Memorandum).

Scope of the Order

The merchandise covered by this order is DOTP, regardless of form. DOTP that has been blended with other products is included within this scope when such blends include constituent parts that have not been chemically reacted with each other to produce a different product. For such blends, only the DOTP component of the mixture is covered by the scope of this order. Subject merchandise is currently classified under subheading 2917.39.2000 of the Harmonized Tariff Schedule of the United States (HTSUS). Subject merchandise may also enter under subheadings 2917.39.7000 or 3812.20.1000 of the HTSUS. While the HTSUS classifications are provided for convenience and customs purposes, the written description of the scope of this order is dispositive. See the Preliminary Decision Memorandum for a full description of the scope of the order.

Preliminary Determination of No Shipments

On November 5, 2020, AKP submitted a letter certifying that it had no exports, sales or entries of subject merchandise into the United States during the POR.⁴ U.S. Customs and Border Protection (CBP) provided no information to contradict these claims of no shipments during the POR.⁵ Therefore, we preliminarily determine that AKP had no shipments during the POR. Consistent with Commerce's practice, we will not rescind the review with respect to AKP, but rather will complete the review and issue appropriate liquidation instructions to CBP based on the final results.⁶ For further discussion, see the Preliminary Decision Memorandum.

⁴ See AKP's Letter, “Administrative Review of the Antidumping Order on Dioctyl Terephthalate from Korea for the 2019-20 Review Period—No Shipments Letter,” dated November 5, 2020.

⁵ See Memorandum, “Dioctyl terephthalate from the Republic of Korea (A-580-889),” dated January 5, 2021.

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Methodology

Commerce is conducting this review in accordance with sections 751(a)(1)(B) and (2) of the Tariff Act of 1930, as amended (the Act). Pursuant to section 776(a) of the Act, Commerce is preliminarily relying upon facts otherwise available to determine a weighted-average dumping margin for LG Chem in this review. Commerce preliminarily finds that necessary information is not available on the record, and that LG Chem withheld information requested by Commerce, failed to provide the requested information in the form and manner requested, and significantly impeded the proceeding, warranting a determination on the basis of the facts available under section 776(a) of the Act. Further, Commerce preliminarily determines that LG Chem failed to cooperate to the best of its ability, and thus, Commerce is applying facts available with adverse inferences (AFA) to LG Chem, in accordance with section 776(b) of the Act. For a full description of the methodology underlying our conclusions regarding the application of AFA, see the Preliminary Decision Memorandum.

Preliminary Results of the Review

As a result of this review, we preliminarily determine the following weighted-average dumping margin for the period August 1, 2019, through July 31, 2020:

Exporter or producer | Weighted- average dumping margin (percent)
LG Chem, Ltd | 47.86

Assessment Rates

Upon completion of the administrative review, Commerce shall determine, and CBP shall assess, antidumping duties on all appropriate entries covered by this review. The final results of this review shall be the basis for the assessment of antidumping duties on entries of merchandise covered by the final results of this review and for future deposits of estimated duties, where applicable.⁷ If the preliminary results are unchanged for the final results, we will instruct CBP to apply an ad valorem assessment rate equal to LG Chem's weighted-average dumping margin in the final results of this review to all entries of subject merchandise during the period of review from LG Chem. For AKP, if we find that AKP had no shipments during the POR, then we will instruct CBP to liquidate any suspended entries associated with AKP pursuant to the reseller policy.⁸

⁷ See section 751(a)(2)(C) of the Act.

⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) The cash deposit rate for LG Chem will be equal to the weighted-average dumping margin established in the final results of this review, except if the rate is less than 0.50 percent and, therefore, de minimis within the meaning of 19 CFR 351.106(c)(1), in which case the cash deposit rate will be zero; (2) for previously investigated or reviewed companies not participating in this review, the cash deposit will continue to be the company-specific rate published for the most recently completed segment of this proceeding in which the company participated; (3) if the exporter is not a firm covered in this or a previously completed review, or in the original less-than-fair-value (LTFV) investigation, but the producer is, the cash deposit rate will be the rate established for the most recent segment for the producer of the merchandise; and (4) the cash deposit rate for all other producers or exporters will continue to be 3.69 percent, the all-others rate established in the LTFV investigation.⁹

⁹ See Dioctyl Terephthalate from the Republic of Korea: Antidumping Duty Order, 82 FR 39410 (August 18, 2017).

These cash deposit requirements, when imposed, shall remain in effect until further notice.

Disclosure and Public Comment

Normally, Commerce discloses the calculations performed in connection with preliminary results to interested parties within five days after the date of public announcement or publication of this notice.¹⁰ Because Commerce preliminarily applied a rate based on AFA in accordance with section 776 of the Act, to the only respondent with shipments in this review, there are no calculations to disclose.

¹⁰ See 19 CFR 351.224(b).

Interested parties may submit case briefs no later than 30 days after the date of publication of this notice.¹¹ Rebuttal briefs, limited to issues raised in the case briefs, may be filed no later than seven days after the time limit for filing case briefs.¹² Parties who submit case briefs or rebuttal briefs in this proceeding are encouraged to submit with each argument: (1) A statement of the issue; (2) a brief summary of the argument; and (3) a table of authorities.¹³ Case and rebuttal briefs should be filed using ACCESS.¹⁴

¹¹ See 19 CFR 351.309(c)(1)(ii).

¹² See 19 CFR 351.309(d)(1); see also Temporary Rule Modifying AD/CVD Service Requirements Due to COVID-19; Extension of Effective Period, 85 FR 41363 (July 10, 2020) (Temporary Rule).

¹³ See 19 CFR 351.309(c)(2) and (d)(2).

¹⁴ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.¹⁵ Hearing requests should contain: (1) The party's name, address, and telephone number; (2) the number of participants; and (3) a list of issues to be discussed. Issues raised in the hearing will be limited to issues raised in the briefs. If a request for a hearing is made, Commerce intends to hold the hearing at a time and date to be determined.¹⁶

¹⁵ See 19 CFR 351.310(c).

¹⁶ Id.

Final Results of Review

Commerce intends to issue the final results of this administrative review, including the results of its analysis raised in any written briefs, not later than 120 days after the publication of these preliminary results in the Federal Register, unless otherwise extended.¹⁷

¹⁷ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: May 3, 2021.
Christian Marsh,
Acting Assistant Secretary for Enforcement and Compliance.

Appendix

List of Topics Discussed in the Preliminary Decision Memorandum

I. Summary

II. Background

III. Scope of the Order

IV. Preliminary Determination of No Shipments

V. Application of Facts Available and Use of Adverse Inferences

VI. Recommendation

[FR Doc. 2021-09716 Filed 5-6-21; 8:45 am]

BILLING CODE 3510-DS-P